DEPARTMENT OF AGRICULTURE

Forest Service

Humboldt Resource Advisory Committee (RAC)

AGENCY: Forest Service, USDA.

ACTION: Notice of meeting.

SUMMARY: The Humboldt Resource Advisory Committee (RAC) will meet in Eureka, California. The committee meeting is authorized under the Secure Rural Schools and Community Self-Determination Act (Pub. L. 110-343) and in compliance with the Federal Advisory Committee Act. The purpose of the meeting is to orientate new committee members to the Secure Rural Schools Act, guidelines for Title II, and Federal Advisory Committees Act and receive public comment on the meeting subjects and proceedings.

DATES: The meeting will be held July 13, 2010, from 5 p.m. to 7 p.m.

ADDRESSES: The meeting will be held at the Six Rivers National Forest Office, 1330 Bayshore Way, Eureka, CA 95501.

FOR FURTHER INFORMATION CONTACT: Julie Ranieri, Committee Coordinator, Six Rivers National Forest, 1330 Bayshore Way, Eureka, CA 95503 (707) 441-3673; e-mail jranieri@fs.fed.us.

SUPPLEMENTARY INFORMATION: The meeting is open to the public. Agenda items to be covered include: (1) Develop and approve operational guidelines and ground rules; (2) presentation on the National Environmental Policy Act; (3) Title II projects; (4) project solicitation process and timeline; and (5) receive public comment. An opportunity will be provided for the public to address the Committee.

Dated: June 18, 2010.
Tyrone Kelley,
Forest Supervisor.

[FR Doc. 2010-15308 Filed 6-23-10; 8:45 am]

BILLING CODE P